DEPARTMENT OF EDUCATION

[CFDA No. 84.305T]

Office of Educational Research and Improvement (OERI); Field-Initiated Studies (FIS) Education Research Grant Program; Notice of Application Review Procedures for New Awards for Fiscal Year (FY) 2001

SUMMARY: On July 14, 2000 we published in the Federal Register (64 FR 43957) a notice inviting applications for new awards for FY 2001 for the FIS Education Research Grant Program. The procedures governing the review of applications are contained in 34 CFR part 700. This notice explains modifications to those procedures that OERI will use to review applications for this competition.

Application Review Procedure

OERI will use a one-tier review process for the FIS program competition for FY 2001. Applications will be assigned to review panels where the expertise of the panel matches the topic of the application. Within each panel, each application will be reviewed by at least three reviewers. Three selection criteria were included in the application package—National Significance, Quality of the Project Design, and Quality and Potential Contributions of Personnel. Reviewers will weigh the three selection criteria equally to rate each application as either—

(1) Exceptionally high quality,

(2) High quality,

(3) Moderate quality, or

(4) Low quality.

To construct the funding slate, an average numerical score will be determined for each application through the following procedure. For each application, a numerical value of 3 will be assigned for each rating of exceptionally high quality that the application receives, a numerical value of 2 will be assigned for each rating of high quality that the application receives, a numerical value of 1 will be assigned for each rating of moderate quality that the application receives, and a numerical value of 0 will be assigned for each rating of low quality that the application receives. Then, for each application, the total of the numeric scores the application receives will be divided by the number of reviewers who rated that application to determine the average score for that application.

For this competition, potential applicants were invited to submit letters of intent. In the letter of intent, applicants identified the panel they thought was best suited to review their application. Applicants are hereby notified that the data in the letters of intent were collected for administrative purposes only. OERI reserves the right to assign any application to any panel where the agency believes the reviewers are best qualified to review that application.

Waiver of Proposed Rulemaking

In accordance with the Administrative Procedure Act (5 U.S.C. 553), it is the practice of the Secretary to offer interested parties the opportunity to comment on proposed regulations. However, because this notice merely establishes procedural requirements for review of applications and does not create substantive policy, proposed rulemaking is not required under 5 U.S.C. 553(b)(A).

FOR FURTHER INFORMATION CONTACT: Elizabeth Payer, Office of Educational Research and Improvement, U.S. Department of Education, 555 New Jersey Avenue, NW., room 502e, Washington, DC 20208-5645. Telephone: (202) 219-1310 or via Internet: Elizabeth_Payer@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 6031(c)(2)(B).

Dated: September 19, 2000.
C. Kent McGuire,
Assistant Secretary for Educational Research and Improvement.

[FR Doc. 00-24391 Filed 9-21-00; 8:45 am]

BILLING CODE 4000-01-P